DEPARTMENT OF AGRICULTURE

Food and Nutrition Service

Child and Adult Care Food Program: National Average Payment Rates, Day Care Home Food Service Payment Rates, and Administrative Reimbursement Rates for Sponsoring Organizations of Day Care Homes for the Period July 1, 2018 Through June 30, 2019

Correction

In notice document 2018-15464, appearing on pages 34108 through 34110, in the issue of Thursday, July 19, 2018, make the following correction:

On page 34110, in the table, in the “Lunch and supper” column, under “Tier II”, under “Next 150”, in the last row, “195” should read “105”.

[FR Doc. C1-2018-15464 Filed 8-9-18; 8:45 am]

BILLING CODE 1301-00-D